DEPARTMENT OF AGRICULTURE

Food Safety and Inspection Service

[Docket No. 05-002N]

Codex Alimentarius Commission: 22nd Session of the Codex Committee on General Principles

AGENCY: Office of the Under Secretary for Food Safety.

ACTION: Notice of public meeting; request for Comments.

SUMMARY: The Office of the Under Secretary for Food Safety, United States Department of Agriculture (USDA), and the Food and Drug Administration (FDA), United States Department of Health and Human Services, are sponsoring a public meeting on March 29, 2005, to provide draft U.S. positions and receive public comments on agenda items that will be discussed at the 22nd Session of the Codex Committee on General Principles (CCGP) of the Codex Alimentarius Commission (Codex). The 22nd Session of the CCGP will be held in Paris, France, April 11-15, 2005. The Under Secretary of USDA and FDA recognize the importance of providing interested parties with the opportunity to comment on the agenda items that will be debated at this forthcoming session of the CCGP.

DATES: The public meeting is scheduled for Tuesday, March 29, 2005, from 1 p.m. to 4 p.m.

ADDRESSES: The public meeting will be held in the USDA South Building Cafeteria (rear), 1400 Independence Avenue, SW., Washington, DC.

Documents related to the 22nd Session of the CCGP will be accessible via the World Wide Web at the following address: http://www.codexalimentarius.net/current.asp.

FSIS invites interested persons to submit comments on this notice. Comments may be submitted by any of the following methods:

• Mail, including floppy disks or CD-ROMs, and hand -or courier-delivered items: Send to the FSIS Docket Clerk, U.S. Department of Agriculture, Food Safety and Inspection Service, 300 12th Street, SW., Room 102, Cotton Annex, Washington D.C. 20730. All Comments received must include the Agency name and docket number 05-002N.

All comments submitted in response to this notice, will be available for public inspection in the FSIS Docket Room at the address listed above between 8:30 a.m. and 4:30 p.m., Monday through Friday. The comments also will be posted on the Agency's Web site at http://www.fsis.usda.gov/regulations/2005_Notices_Index/.

Participation by Conference Call: A call-in number has been arranged: 1-800-369-1941; the pass code is CODEX.

FOR FURTHER INFORMATION CONTACT: About the 22nd Session of the CCGP: U.S. Delegate, F. Edward Scarbrough, Ph.D., U.S. Manager for Codex, FSIS, USDA, 1400 Independence Avenue, SW., Washington, DC 20250, telephone: (202) 205-7760; facsimile: (202) 720-3157. Electronic mail: ed.scarbrough@fsis.usda.gov.

About the Public Meeting Contact: Ellen Matten, International Issues Analyst, U.S. Codex Office, FSIS, Room 4861, South Building, 1400 Independence Avenue, SW., Washington, DC 20250, telephone: (202) 205-7760; facsimile: (202) 720-3157.

SUPPLEMENTARY INFORMATION:

Background

The Codex Alimentarius (Codex) was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex activities.

The Codex Committee on General Principles (CCGP) deals with rules and procedures referred to it by the Codex Alimentarius Commission, including the establishment of principles that define the purpose and scope of the Codex Alimentarius and the nature of Codex standards. The development of mechanisms to address any economic impact statements also is the responsibility of the CCGP. The CCGP is chaired by France.

Issues To Be Discussed at the Public Meeting

The following items on the agenda for the 22nd Session of CCGP will be discussed during the public meeting:

• Matters referred by the Codex Alimentarius Commission and other Codex Committees.

• Proposed Draft Working Principles for Risk Analysis for Food Safety.

• Proposed Draft Revised Code of Ethics for International Trade in Foods.

• Proposed Amendments to the Procedural Manual: Acceptance of Codex Standards.

• Revision of the definition of the term “food”.

• Consideration of the structure and presentation of the Procedural Manual.

• Clarification of the duration of the term of the Members of the Executive Committee.

Each issue will be fully described in documents distributed, or to be distributed, by the French Secretariat to the meeting. Members of the public may access or request copies of these documents (see ADDRESSES).

Public Meeting

At the March 29, 2005, public meeting, draft U.S. positions on these agenda items will be described, discussed, and attendees will have the opportunity to pose questions and offer comments. Written comments may be offered at the meeting or sent to the delegate. Written comments should state that they relate to activities of the 22nd Session of the CCGP.

Additional Public Notification

Public awareness of all segments of rulemaking and policy development is important. Consequently, in an effort to ensure that the public and, in particular, minorities, women, and persons with disabilities are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free electronic mail subscription service for industry, trade, and farm groups, consumer interest groups, allied health professionals, scientific professionals, and other individuals who have requested to be included. The update is available on the FSIS Web page. Through Listserv and the Web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices.

Customers can add or delete subscriptions themselves and have the option to protect their accounts with passwords.

Done in Washington, DC, on March 9, 2005.
F. Edward Scarbrough,
U.S. Manager for Codex Alimentarius.

[FR Doc. 05-4995 Filed 3-14-05; 8:45 am]

BILLING CODE 3410-DM-P